DEPARTMENT OF THE INTERIOR

Fish and Wildlife Service

Notice of Public Comment Period Extension and Four Public Open Houses for the Hanford Reach National Monument/Saddle Mountain National Wildlife Refuge Comprehensive Conservation Plan and Environmental Impact Statement

AGENCY: Fish and Wildlife Service, Interior.

ACTION: Notice of extension of public comment period and four public “Open Houses” for the Hanford Reach National Monument/Saddle Mountain National Wildlife Refuge Comprehensive Conservation Plan and Environmental Impact Statement.

SUMMARY: This notice informs the public that the comment period for scoping issues to be evaluated in the Draft Comprehensive Conservation Plan and Draft Environmental Impact Statement for the Hanford Reach National Monument/Saddle Mountain National Wildlife Refuge (Monument) is extended to October 12, 2002, and public open houses are scheduled in Mattawa, Seattle, Richland, and Yakima, Washington. See Supplementary Information for public meeting dates and locations.

DATES: Comments must be received by the new deadline of October 12, 2002, at the address below. See Supplementary Information for Open House dates.

ADDRESSES: Address comments and requests for more information to: Greg Hughes, Project Leader, Hanford Reach National Monument, 3250 Port of Benton Blvd., Richland, Washington 99352, Fax (509) 375-0196. See Supplementary Information for Open House addresses.

FOR FURTHER INFORMATION CONTACT: Greg Hughes, Project Leader, or Dan Haas, Planning Team Leader, at phone: (509) 371-1801, or fax: (509) 375-0196.

SUPPLEMENTARY INFORMATION: The Fish and Wildlife Service published a notice of intent to prepare a Comprehensive Conservation Plan and associated Environmental Impact Statement for the Monument in the Federal Register on June 12, 2002, (Vol. 67, No. 113, pages 40333-40337). Comments were to be received on or before September 12, 2002. Public scoping meetings were to be held at locations and times to be specified in subsequent notices and news releases.

The Service is extending the comment period to provide additional opportunities for the public to provide comments at open houses. The new deadline for public comment is now extended to October 12, 2002. Comments already received are on record and need not be resubmitted. All comments received become part of the official public record.

Public open houses have been scheduled at the following dates, times, and locations.

1. August 28, 2002, from 6 p.m. to 9 p.m., at Wahluke High School, 502 N. Boundary, Mattawa, WA.

2. September 5, 2002, from 6 p.m. to 9 p.m., at the Radisson Hotel Seattle Airport, 17001 Pacific Highway South, Seattle, WA.

3. September 9, 2002, from 4 p.m. to 9 p.m., Consolidated Information Center, Washington State University Tri-Cities Campus, 2770 University Dr., Richland, WA.

4. September 17, 2002, 6 p.m. to 9 p.m., at the Yakima Convention Center, 10 N. 8th Street, Yakima, WA.

Dated: July 30, 2002.
Rowan W. Gould,
Regional Director, Region 1, Portland, Oregon.

[FR Doc. 02-21728 Filed 8-26-02; 8:45 am]

BILLING CODE 4310-55-P